DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed reinstatement with change of the “Quick Business Survey Operations Test.” A copy of the proposed information collection request (ICR) can be obtained by contacting the individual listed below in the Addresses section of this notice.

DATES: Written comments must be submitted to the office listed in the Addresses section of this notice on or before February 26, 2019.

ADDRESSES: Send comments to Carol Rowan, BLS Clearance Officer, Division of Management Systems, Bureau of Labor Statistics, Room 4080, 2 Massachusetts Avenue NE, Washington, DC 20212. Written comments also may be transmitted by fax to 202-691-5111 (this is not a toll free number).

FOR FURTHER INFORMATION CONTACT: Carol Rowan, BLS Clearance Officer, at 202-691-7628 (this is not a toll free number). (See ADDRESSES section.)

SUPPLEMENTARY INFORMATION:

I. Background

The Bureau of Labor Statistics (BLS) intends to conduct a second operations test for a Quick Business Survey (QBS). The BLS will build on the results of a prior test to further evaluate QBS survey processes and operations in a possible production environment. If successful, a QBS would permit BLS to collect information about the U.S. economy more efficiently than is currently possible. In addition, it would allow data users to be able to understand the impact of specific events on the economy in a timely manner that would be relevant to data users.

As with the first operations test, the BLS will test using the Annual Refiling Survey (ARS) as a platform for conducting the QBS. Each year, the Quarterly Census of Employment and Wages (QCEW) Program conducts the ARS by reaching out to approximately 1.2 million establishments requesting verification of their main business activity, and their mailing and physical location addresses. The fully web-based ARS provides a low-cost platform for conducting the QBS. The QBSs accompanying the ARS would have little data collection overhead, leveraging the address refinement, printing, and mailing efforts that are undertaken as part of the production ARS. Respondents already logged into the ARS secure website could be directed to a QBS and asked to answer a limited number of additional survey questions after completing the ARS.

II. Current Action

Office of Management and Budget clearance is being sought for a reinstatement with change of the Quick Business Survey (QBS) Operations Test in order to conduct a second test.

A QBS would allow BLS to leverage the multitude of information already known about the sample units to allow for targeted sampling. It also would permit BLS to target only the units meeting the specific set of characteristics desired allowing BLS to delve into specific areas of economic interest without burdening establishments which do not meet the specific targeted features. The QBS is designed to encourage a fast response and minimize respondent burden. In this manner, BLS can provide information that is needed quickly and is not collected elsewhere.

Through the second operations test, the BLS will continue to evaluate the following goals: To develop and evaluate a QBS system, to understand the extent to which ARS respondents have access to different types of information in order to provide parameters for future QBS, and to estimate response rates. In addition, the second test will afford further analysis of more refined sampling methodology and efforts to improve response rates, and will allow the development of a detailed cost model for use in potential future production.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Quick Business Survey Operations Test.

OMB Number: 1220-0192.

Type of Review: Reinstatement with Change.

Agency: Bureau of Labor Statistics.

Affected Public: Businesses or other for-profit institutions, not-for-profit institutions, and farms.

Total Respondents: 24,230.

Frequency: One time.

Total Responses: 24,230.

Average Time per Response: Three minutes.

Estimated Total Burden Hours: 1,212 hours.

Comments submitted in response to this notice will be summarized and/or included in the request for Office of Management and Budget approval of the information collection request; they also will become a matter of public record.

Signed at Washington, DC, this 20th day of December 2018.
Mark Staniorski,
Division Chief, Division of Management Systems, Bureau of Labor Statistics.

[FR Doc. 2018-28222 Filed 12-27-18; 8:45 am]

BILLING CODE 4510-24-P